DEPARTMENT OF DEFENSE

Department of the Army

Availability for Non-Exclusive, Exclusive, or Partially Exclusive Licensing of U.S. Patent Application Concerning Protective Peptides of Neurotoxin of C. Botulinum

AGENCY: Department of the Army, DoD.

ACTION: Notice.

SUMMARY: In accordance with 37 CFR 404.6 and 404.7, announcement is made of the availability for licensing of U.S. Patent No. 6,287,566 entitled “Protective Peptides of Neurotoxin of C. Botulinum,” issued September 11, 2001 and related U.S. Patent Application No. 09/917,791 entitled “Protective Peptides of Neurotoxin of C. Botulinum,” filed July 31, 2001. The United States Government, as represented by the Secretary of the Army, has rights in this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: Methods for developing vaccines to protect from neurotoxins of C. botulinum have been developed. Truncated BoNT/A proteins of about 15-30 kDa in size produced immune responses that provided protection from neuronal damage by botulinum neurotoxins.

Luz D. Ortiz,
Army Federal Register Liaison Officer.

[FR Doc. 02-29588 Filed 11-20-02; 8:45 am]

BILLING CODE 3710-08-M